DEPARTMENT OF ENERGY

Federal Energy Regulatory Commission

Combined Notice of Filings #2

Take notice that the Commission received the following electric corporate filings:

Docket Numbers: EC13-79-000.

Applicants: Atlantic Path 15, LLC.

Description: Application of Atlantic Path 15, LLC for Authorization under Section 203 of the Federal Power Act for Disposition of Jurisdictional Facilities and Request for Expedited Consideration and Confidential Treatment.

Filed Date: 3/11/13.

Accession Number: 20130311-5080.

Comments Due: 5 p.m. ET 4/1/13.

Take notice that the Commission received the following exempt wholesale generator filings:

Docket Numbers: EG13-19-000.

Applicants: PATUA PROJECT LLC.

Description: Notice of Self-Certification of PATUA PROJECT LLC.

Filed Date: 3/11/13.

Accession Number: 20130311-5023.

Comments Due: 5 p.m. ET 4/1/13.

Take notice that the Commission received the following electric rate filings:

Docket Numbers: ER13-1064-000.

Applicants: Pacific Gas and Electric Company.

Description: Pacific Gas and Electric Company submits tariff filing per 35.13(a)(2)(iii: Amendment to PWRPA IA Appendix B and Filing of Mocho 4 WDT Service Agreement to be effective 3/12/2013.

Filed Date: 3/11/13.

Accession Number: 20130311-5000.

Comments Due: 5 p.m. ET 4/1/13.

Docket Numbers: ER13-1065-000.

Applicants: Northern States Power Company, a Minnesota corporation

Description: 2013-3-11_Brookings_CMA_536_0.0.0-Filing to be effective 1/13/2012.

Filed Date: 3/11/13.

Accession Number: 20130311-5070.

Comments Due: 5 p.m. ET 4/1/13.

Docket Numbers: ER13-1066-000.

Applicants: Northern States Power Company, a Minnesota corporation.

Description: 2013-3-11_Brookings_OMA_537_0.0.0-Filing to be effective 1/13/2012.

Filed Date: 3/11/13.

Accession Number: 20130311-5074.

Comments Due: 5 p.m. ET 4/1/13.

Docket Numbers: ER13-1067-000.

Applicants: Northern States Power Company, a Minnesota corporation

Description: 2013-3-11-CAPX-TCEA-BRKGS-538-0.0.0-Filing to be effective 1/13/2012.

Filed Date: 3/11/13.

Accession Number: 20130311-5078.

Comments Due: 5 p.m. ET 4/1/13.

Take notice that the Commission received the following qualifying facility filings:

Docket Numbers: QF13-344-000.

Applicants: Caterpillar Inc.

Description: Form 556—Notice of self-certification of qualifying cogeneration facility status of Caterpillar Inc.

Filed Date: 3/8/13.

Accession Number: 20130308-5217.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2013.
Nathaniel J. Davis, Sr.,
Deputy Secretary.

[FR Doc. 2013-06259 Filed 3-18-13; 8:45 am]

BILLING CODE 6717-01-P